DEPARTMENT OF TRANSPORTATION

Federal Aviation Administration

Notice of Release From Quitclaim Deed and Federal Grant Assurance Obligations at Santa Maria Public Airport, Santa Maria, Santa Barbara County, California

AGENCY: Federal Aviation Administration, DOT.

ACTION: Notice of Request to Release Airport Land.

SUMMARY: The Federal Aviation Administration (FAA) proposes to rule and invites public comment on the application for a release of approximately 21.09 acres of airport property at Santa Maria Public Airport/Captain G. Allan Hancock Field, Santa Maria, Santa Barbara County, California, from all conditions contained in the Quitclaim Deed and Grant Assurances since the parcel of land is not needed for airport purposes. The property will be sold for its fair market value and the proceeds used for airport purposes. The planned use of the land for commercial purposes represents a compatible land use that will not interfere with the airport or its operation, thereby protecting the interests of civil aviation.

DATES: Comments must be received on or before February 22, 2016.

FOR FURTHER INFORMATION CONTACT: Comments on the request may be mailed or delivered to the FAA at the following address: Tony Garcia, Airports Compliance Program Manager, Federal Aviation Administration, Airports Division, Federal Register Comment, 15000 Aviation Blvd., Lawndale, CA 90261. In addition, one copy of the comment submitted to the FAA must be mailed or delivered to Mr. Chris Hastert, General Manager, Santa Maria Public Airport District, 3217 Terminal Drive, Santa Maria, CA 93455-1899.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The Santa Maria Public Airport District, Santa Maria, California requested a release from the conditions contained in the Quitclaim Deed and Grant Assurance obligations for approximately 21.09 acres of airport land at Santa Maria Public Airport. The property is located on the north side of the Airport and south of Fairway Drive. The property is mostly undeveloped and served as a 9-hole golf course. The Santa Maria Airport District requested approval to sell the parcel because the land is not presently needed for airport purposes or for future airport development. The sale price will be based on its appraised market value and the sale proceeds will be used for airport purposes. The future commercial use of the property represents a compatible use that will not interfere with airport operations. On this basis, the disposal will serve the interests of civil aviation.

Issued in Hawthorne, California, on January 11, 2016.
Brian Armstrong,
Manager, Safety and Standards, Airports Division, Western-Pacific Region.

[FR Doc. 2016-01207 Filed 1-20-16; 8:45 am]

BILLING CODE 4910-13-P